FEDERAL COMMUNICATIONS COMMISSION

47 CFR Part 101

[WT Docket No. 09-114; RM-11417; FCC 10-109]

Amendment of the Commission's Rules To Accommodate 30 Megahertz Channels in the 6525-6875 MHz Band; and To Provide for Conditional Authorization on Additional Channels in the 21.8-22.0 GHz and 23.0-23.2 GHz Band

AGENCY: Federal Communications Commission.

ACTION: Final rule.

SUMMARY: In this document, the Commission revises its rules governing terrestrial fixed wireless services in the Upper 6 GHz Band and the 23 GHz Band by providing wider bandwidths and conditional authorization. Allowing wider bandwidth channels in the Upper 6 GHz Band makes an additional source of spectrum for high-capacity microwave links more readily available. Expanding conditional authority in the 23 GHz Band will enable licensees to activate microwave links more quickly, including links involved in critical commercial, backhaul, and public safety applications.

DATES: Effective August 18, 2010.

ADDRESSES: Federal Communications Commission, 445 12th Street, SW., Washington, DC 20554.

FOR FURTHER INFORMATION CONTACT: Charles Oliver or Stephen Buenzow, Wireless Telecommunications Bureau, Broadband Division, Federal Communications Commission, 445 12th Street, SW., Washington, DC 20554, at (202) 418-2487 (voice), (202) 418-7233 (TTY), or via the Internet to Charles.Oliver@fcc.gov or Stephen.Buenzow@fcc.gov.

SUPPLEMENTARY INFORMATION: This is a summary of the Commission's Report and Order (R&O), FCC 10-109, adopted on June 7, 2010, and released on June 11, 2010. The full text of this document is available for public inspection and copying during normal business hours in the FCC Reference Information Center, Room CY-A257, 445 12th Street, SW., Washington, DC 20554. The complete text may be purchased from the Commission's duplicating contractor, Best Copy and Printing, Inc. (BCPI), Portals II, 445 12th Street, SW., Room CY-B402, Washington, DC 20554, (202) 488-5300 or 1-800-378-3160, contact BCPI at its Web site: http://www.bcpiweb.com. When ordering documents from BCPI, please provide the appropriate FCC document number, for example, FCC 10-109. The complete text of this document is also available on the Commission's Web site at http://wireless.fcc.gov/edocs_public/attachment/FCC 10-109A1.doc. This full text may also be downloaded at: http://wireless.fcc.gov/releases.html. Alternative formats (computer diskette, large print, audio cassette, and Braille) are available by contacting Brian Millin at (202) 418-7426, TTY (202) 418-7365, or via e-mail to bmillin@fcc.gov.

Summary:

I. Wider Bandwidths in the Upper Six Gigahertz Band

Background

1. Most of the part 101 Fixed Service 6 GHz Band is made up of two sub-bands, 5925-6425 MHz (Lower 6 GHz Band) and 6525-6875 MHz (Upper 6 GHz Band). The Commission licenses terrestrial Fixed Services (FS) in both sub-bands, but the technical rules related to the licensing for each sub-band are different. For FS applicants, the most important distinction is the maximum authorized bandwidth: 30 megahertz is the maximum bandwidth allowed in the Lower 6 GHz Band and 10 megahertz is the maximum allowed in the Upper 6 GHz Band.

2. The Lower 6 GHz Band is increasingly congested, partly because FS users can obtain wider bandwidths on those frequencies but also because other services are allowed to use the band. As of April 7, 2010, there were 15,936 active FS licenses in the Lower 6 GHz Band. Furthermore, as of March 31, 2010, the Lower 6 GHz Band had 1,641 licensed satellite earth stations. Through the frequency coordination process, and consistent with existing rules, each earth station is routinely cleared to use the entire 5925-6425 MHz band for the entire geosynchronous arc, even if the earth station actually communicates with only one transponder on one satellite on a limited set of channels. Thus, a satellite earth station has an extensive preclusive effect on the ability of subsequent applicants to coordinate stations in adjacent areas. By comparison, the typical terrestrial FS station is coordinated for a narrow beamwidth on a single channel or a limited set of channels.

3. The congestion in the Lower 6 GHz Band has led a number of FS applicants to file waiver requests seeking licenses to operate in the Upper 6 GHz Band on bandwidths that are greater than the 10 megahertz that is authorized by rule. As of April 7, 2010, the Commission had issued waivers authorizing 957 FS frequency paths with bandwidths greater than 10 megahertz in the Upper 6 GHz Band, of which 625 were authorized with 30 megahertz bandwidths. While the waiver process has provided an alternative for applicants seeking wider bandwidths in the Upper 6 GHz, some FS operators have argued that it has the disadvantages of delay and additional preparation costs.

4. Pursuant to § 101.103 of the Commission's rules, applicants for FS licenses are required to coordinate their proposed stations with incumbent licensees and contemporaneous applicants to ensure that they will not interfere with each other. Once that process is completed, the Commission's rules provide many applicants with conditional authority to begin service immediately, without waiting for final approval from the Commission, with the stipulation that they must take their stations down if the Commission later rejects their applications. Conditional authority is not available, however, to applicants that must request waivers of existing rules.

5. On February 4, 2008, Fixed Wireless Communications Coalition (FWCC) filed a petition proposing that the Commission change its rules to allow channels with 30 megahertz bandwidths in the Upper 6 GHz Band, a change that would extend the opportunity for fast-track, conditional authorizations to the Upper 6 GHz. On June 29, 2009, the Commission released a Notice of Proposed Rulemaking (NPRM), 74 FR 36134 (July 22, 2009), in which we proposed and sought comment on modifying the Commission's part 101 rules to provide fixed terrestrial wireless licensees with authority to use channels with wider bandwidths of as much as 30 megahertz in the Upper 6 GHz Band. We found that such action could serve the public interest by making more readily available an additional source of spectrum for high-capacity microwave links.

6. We conclude that the public interest would be served by authorizing 30 megahertz bandwidth channels in the Upper 6 GHz Band. Comments filed in response to the NPRM unanimously support authorizing 30 megahertz channels in the Upper 6 GHz band. We find such action could serve the public interest by making an additional source of spectrum for high-capacity microwave links more readily available. As FWCC states, such links support a variety of important commercial, public safety, and consumer uses, including backhaul for broadband systems. Furthermore, the high number of waiver requests seeking licenses for 30 megahertz channels (625 authorized paths as of April 7, 2010) is evidence of a notable demand for 30 megahertz channels in this band. We believe that allowing such channels without requiring applicants to seek a waiver would expedite the provision of service by allowing them to take advantage of conditional authority. Furthermore, all of the commenters agree that our existing rules and policies are sufficient to prevent congestion and speculative licensing.

7. As an added safeguard against congestion, we also adopt the NPRM's proposal that applicants for 30 megahertz channels on new facilities in the Upper 6 GHz Band be required to demonstrate that 30 megahertz channels in the Lower 6 GHz Band are unavailable. This condition is supported by FWCC, National Spectrum Management Association (NSMA), and AT&T, Inc. (AT&T). We decline, however, to require a showing that available channels in the 11 GHz band could not support the path lengths required by the applicant. As FWCC and NSMA point out, this requirement could be a burden for applicants that are already licensed to operate on the same paths in the 6 GHz band.

8. We decline to adopt the Tier One Converged Networks, Inc. and Cielo Networks, Inc. proposal that we also begin issuing licenses for bandwidths of 40 megahertz or more in the Upper 6 GHz Band. While, as noted above, we have received many waiver requests for 30 megahertz channels, we have not received any requests for waivers authorizing such bandwidths in the Upper 6 GHz Band. Furthermore, no commenter proposed a band plan that would accommodate 40 megahertz or wider channels. Finally, for shorter paths, we note that 40 and 50 megahertz channels are available in the 18 and 23 GHz bands. We may revisit this conclusion in the future if a more concrete showing of need for wider channels in the 6 GHz Band is made.

9. To implement these new rules, we also adopt the specific channel plan proposed in the NPRM, with the corrections noted by AT&T and FWCC, i.e., 30 megahertz bandwidth paired channels (for 60 megahertz total for each authorized path) at 6555 and 6725 MHz, 6595 and 6755 MHz, 6625 and 6785 MHz, 6655 MHz and 6815 MHz, and 6685 MHz and 6845 MHz. AT&T and NSMA support this proposal, and no oher commenters propose any alternative channelization scheme.

II. Conditional Authority for Operation in the 23 Gigahertz Band

10. The Commission's rules provide for conditional authorization of fixed microwave links, allowing the license applicant to begin operating a link as soon as the application is filed, if the link has been frequency coordinated and certain other conditions are met. The frequencies in the 23 GHz band are shared by federal and non-federal users. For this reason, conditional authority in the band is limited to frequencies for which the Commission has an agreement with the National Telecommunications and Information Administration (NTIA) to permit conditional authorization. Thus, in the 23 GHz band, conditional authority is currently limited to four channel pairs—21.825/23.025 GHz, 21.875/23.075 GHz, 21.925/23.125 GHz, and 21.975/23.175 GHz—for non-federal applicants proposing to limit their equivalent isotropically radiated power (EIRP) to 55 dBm.

11. On November 7, 2007, FWCC submitted a petition for rulemaking requesting that the Commission allow conditional licensing for non-federal use, with NTIA's consent, on two additional channel pairs in the 23 GHz band—the 22.025/23.225 GHz and 22.075/23.275 GHz channel pairs—for applicants proposing to limit their EIRP to 55 dBm. In the NPRM, we sought comment on whether to allow conditional authority on the 22.025/23.225 GHz and 22.075/23.275 GHz channel pairs for applicants proposing to limit their EIRP to 55 dBm. We stated that we had coordinated our proposal with NTIA and that our decision to seek comment on it was predicated on NTIA's lack of opposition. We noted further that the Commission has previously recognized that permitting conditional operation pending the approval of an application provides greater flexibility to part 101 licensees and enables them to operate more efficiently.

12. We adopt our proposal to allow conditional authority on two additional channel pairs in the 23 GHz band—the 22.025/23.225 GHz and 22.075/23.275 GHz channel pairs—for applicants proposing to limit their EIRP to 55 dBm. All of the commenting parties agree that increasing the availability of conditional licensing under those terms will provide significant benefits, by enabling applicants to activate short links more quickly. The only parties that are in any position to be injured by this decision are the federal agencies that are represented by NTIA. NTIA has consulted with them through its Interdepartment Radio Advisory Committee and has concluded that they will suffer no adverse impact if we allow conditional authority on two additional channel pairs in the 23 GHz band, provided that such applicants limit their EIRP to 55 dBm, as FWCC proposes. For those reasons, we adopt the proposed rule.

III. Procedural Matters

A. Paperwork Reduction Analysis

13. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

B. Final Regulatory Flexibility Analysis

As required by the Regulatory Flexibility Act (RFA), an Initial Regulatory Flexibility Analysis (IRFA) was incorporated in the Notice of Proposed Rulemaking (NPRM) in WT Docket 09-114. The Commission sought written public comment on the proposals in the NPRM, including comment on the IRFA. We received no comments specifically directed toward the IRFA. This Final Regulatory Flexibility Analysis (FRFA) conforms to the RFA. In addition, the Report and Order and FRFA (or summaries thereof) will be published in the Federal Register.

A. Need for, and Objectives of, the Proposed Rules

In this Report and Order, we adopt two categories of changes to our part 101 rules involving fixed microwave stations. First, we amend our part 101 rules to permit coordination and licensing of 30 megahertz channels in the 6525-6875 MHz band (Upper 6 GHz Band) if the link cannot be accommodated in the 5925-6425 MHz band (Lower 6 GHz Band). Second, we allow conditional licensing on two additional channel pairs for non-federal use in the 23 GHz band, for applicants proposing to limit their effective isotropically radiated power (E.I.R.P.) to 55 dBm.

With respect to the first change, the Lower 6 GHz Band is increasingly congested, partly because FS users can obtain wider bandwidths but also because other services are allowed to use the band. As of April 7, 2010, there were 15,936 active FS licenses in the Lower 6 GHz Band. Furthermore, as of March 31, 2010, the Lower 6 GHz Band had 1,641 licensed satellite earth stations. Through the frequency coordination process, and consistent with existing rules, each earth station is routinely cleared to use the entire 5925-6425 MHz band for the entire geosynchronous arc, even if the earth station actually communicates with only one transponder on one satellite on a limited set of channels. Thus, a satellite earth station has an extensive preclusive effect on the ability of subsequent applicants to coordinate stations in adjacent areas. By comparison, the typical terrestrial FS station is coordinated for a narrow beamwidth on a single channel or a limited set of channel.

The congestion in the Lower 6 GHz Band has led a number of FS applicants to file waiver requests seeking licenses to operate in the Upper 6 GHz Band on bandwidths that are greater than the 10 megahertz that is authorized by rule. As of April 7, 2010, the Commission had issued waivers authorizing 957 FS frequency paths with bandwidths greater than 10 megahertz in the Upper 6 GHz Band, of which 625 were authorized with 30 megahertz bandwidths. These waivers were granted to applicants who demonstrated that there were no channels available in the Lower 6 GHz Band with comparable bandwidth, that other, higher frequency bands were not suitable for the proposed paths, and that there were no other alternatives. While the waiver process has provided an alternative for applicants seeking wider bandwidths in the Upper 6 GHz, some FS operators have argued that the waiver process has the disadvantages of delay and additional preparation costs.

Allowing channels with bandwidths of as much as 30 megahertz in the Upper 6 GHz Band by rule could meet a variety of needs. Such action could serve the public interest by making more readily available an additional source of spectrum for high-capacity microwave links, which are used for a variety of important commercial, public safety, and consumer uses, including backhaul for broadband systems. Furthermore, the high number of waiver requests seeking licenses for channels greater than 10 megahertz in the Upper 6 GHz Band is evidence of a notable demand for wider channels in that band. On the other hand, the American Petroleum Institute (API) had previously expressed concern that allowing 30 megahertz licenses in the Upper 6 GHz Band could cause congestion, encourage speculative licensing, and make it more difficult for licensees to relocate out of the 2 GHz Band that has been reallocated for advanced technologies. We conclude that the rules we have adopted can provide the benefits of wider channels while avoiding the potential problems noted by API. Specifically, we conclude that our existing minimum payload capacity and construction rules, as well as a requirement that 30 megahertz channels be requested in the Upper 6 GHz Band only if such channels are unavailable in the Lower 6 GHz Band, will prevent congestion and speculative licensing.

With respect to the adopted rules concerning the 23 GHz Band, the Commission's rules provide that, if certain conditions are met, applicants for FS licenses under part 101 may operate their proposed stations more quickly pursuant to conditional authority, although they do so at their own risk during the pendency of their applications. Before exercising conditional authority, the applicant must successfully complete frequency coordination to ensure that the proposed facilities will not cause interference to other authorized facilities. Conditional authority ceases immediately if an application is returned as unacceptable for filing. The Commission's rules also provide that “conditional authority may be modified or cancelled by the Commission at any time without hearing if, in the Commission's discretion, the need for such action arises.”

Wireless telecommunications in the fixed service bands support a variety of critical services such as public safety (including police and fire vehicle dispatch), coordination of railroad train movements, control of natural gas and oil pipelines, electric grid regulation, and backhaul for wireless traffic. Conditional authority allows an applicant to provide those types of services more expeditiously, without having to wait for the Commission to act on its application. Because the 23 GHz Band is shared by federal and non-federal users, conditional authority in that band is limited to frequencies for which the Commission has an agreement with NTIA to permit conditional authorization. NTIA has not stated any objection to allowing conditional licensing on the additional two channel pairs. We therefore amend our rules to add the 22.025/23.225 GHz and 22.075/23.275 GHz channel pairs to the list of frequencies on which we allow conditional authority. Such action will allow all licensees to provide service more rapidly (subject to the normal limitations on conditional authority noted above) while protecting existing licensees.

B. Legal Basis

The proposed action is authorized pursuant to sections 1, 2, 4(i), 7, 10, 201, 214, 301, 302, 303, 307, 308, 309, 310, 319, 324, 332 and 333 of the Communications Act of 1934, as amended, 47 U.S.C. 151, 152, 154(i), 157, 160, 201, 214, 301, 302, 303, 307, 308, 309, 310, 319, 324, 332, and 333.

C. Description and Estimate of the Number of Small Entities to Which the Proposed Rules Will Apply

The RFA directs agencies to provide a description of, and, where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act (SBA). A “small business concern” is one which: (1) Is independently owned and operated; (2) is not dominant in its field of operation; and (3) satisfies any additional criteria established by the SBA.

Our proposed action, if implemented, may, over time, affect small entities that are not easily categorized at present. We therefore describe here, at the outset, three comprehensive, statutory small entity size standards. First, nationwide, there are a total of approximately 27.2 million small businesses, according to the SBA. In addition, a “small organization” is generally “any not-for-profit enterprise which is independently owned and operated and is not dominant in its field.” Nationwide, as of 2002, there were approximately 1.6 million small organizations. Finally, the term “small governmental jurisdiction” is defined generally as “governments of cities, towns, townships, villages, school districts, or special districts, with a population of less than fifty thousand.” Census Bureau data for 2002 indicate that there were 87,525 local governmental jurisdictions in the United States. We estimate that, of this total, 84,377 entities were “small governmental jurisdictions.” Thus, we estimate that most governmental jurisdictions are small.

Wireless Telecommunications Carriers (except satellite). Microwave services include common carrier, private-operational fixed, and broadcast auxiliary radio services. At present, there are approximately 31,428 common carrier fixed licensees and 79,732 private operational-fixed licensees and broadcast auxiliary radio licensees in the microwave services. The Commission has not yet defined a small business with respect to microwave services. For purposes of the FRFA, we will use the SBA definition that applies to Wireless Telecommunications Carriers (except satellite)—i.e., an entity with no more than 1,500 persons. Since 2007, the Census Bureau has placed wireless firms within this new, broad, economic census category. Prior to that time, such firms were within the now-superseded categories of “Paging” and “Cellular and Other Wireless Telecommunications.” Under the present and prior category definitions, the SBA has deemed a wireless business to be small if it has 1,500 or fewer employees. For the category of Wireless Telecommunications Carriers (except Satellite), preliminary data for 2007 show that there were 11,927 firms operating that year. While the Census Bureau has not released data on such establishments broken down by number of employees, we note that the Census Bureau lists total employment for all firms in that sector at 281,262. Since all firms with fewer than 1,500 employees are considered small, given the total employment in the sector, we estimate that the vast majority of wireless firms are small. We estimate that virtually all of the Fixed Microwave licensees (excluding broadcast auxiliary licensees) would qualify as small entities under the SBA definition.

D. Description of Projected Reporting, Recordkeeping, and Other Compliance Requirements

This Report and Order imposes no new reporting or recordkeeping requirements.

E. Steps Taken To Minimize Significant Economic Impact on Small Entities, and Significant Alternatives Considered

The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance rather than design standards; and (4) an exemption from coverage of the rule, or any part thereof for small entities.

As noted above, this Report and Order adopts rules to provide applicants with improved access to spectrum that is presently restricted with respect to bandwidth or that requires completion of frequency coordination with NTIA before the applicant can begin operations on a conditional basis. As noted above, the vast majority of microwave licensees under part 101 of the Commission's rules are considered small businesses. Under our rules, the opportunities to apply for 30 megahertz channels in the Upper 6 GHz Band and to take advantage of conditional authority for the 22.025/23.225 GHz and 22.075/23.275 GHz channel pairs will be equally available to all applicants, including small businesses. Thus, this action will provide additional options to all licensees, including small entity licensees. Such action will serve the public interest by facilitating the efficient use of the 6 GHz and 23 GHz bands. The rules could therefore open up economic opportunities to a variety of spectrum users, including small businesses.

The alternative approach would be to maintain the existing rules. If the rules were not changed to provide for 30 megahertz channels in the Upper 6 GHz Band, applicants who wished to obtain such channels would have to take additional time and money to prepare a request for waiver of the Commission's rules. Such additional time and expense may be particularly disadvantageous to small businesses. Furthermore, because a waiver request would be required, applicants cannot commence operation until the Commission grants their waiver request and application. The resulting delay can make it more difficult for applicants to meet their communications needs or the needs of their customers. With respect to the 23 GHz Band, the alternative approach would be to deny conditional authority on the two additional channel pairs and require applicants to wait until the Commission grants their application before they can commence service. Again, the resulting delay can make it more difficult for applicants to meet their communications needs or the needs of their customers.

F. Federal Rules that May Duplicate, Overlap, or Conflict with the Proposed Rules

None.

IV. Ordering Clauses

14. Accordingly, it is ordered, pursuant to sections 1, 2, 4(i), 7, 10, 201, 214, 301, 302, 303, 307, 308, 309, 310, 319, 324, 332 and 333 of the Communications Act of 1934, 47 U.S.C. 151, 152, 154(i), 157, 160, 201, 214, 301, 302, 303, 307, 308, 309, 310, 319, 324, 332, 333, that this Report and Order is hereby adopted.

15. It is further ordered that part 101 of the Commission's rules is amended as set forth in the final rules, and that these rules shall be effective 30 days after publication in the Federal Register.

16. It is further ordered that the Commission's Consumer and Governmental Affairs Bureau, Reference Information Center, shall send a copy of this Report and Order, including the Final Regulatory Flexibility Analysis, to the Chief Counsel for Advocacy of the U.S. Small Business Administration.

List of Subjects in 47 CFR Part 101

Communications equipment, Radio, Reporting and recordkeeping requirements.

Federal Communications Commission.
Marlene H. Dortch,
Secretary.

Final Rules

For the reasons discussed in the preamble, the Federal Communications Commission amends 47 CFR part 101 as follows:

PART 101—FIXED MICROWAVE SERVICES

1. The authority citation for part 101 continues to read as follows:

Authority: 47 U.S.C. 154, 303.

2. In § 101.31, revise paragraph (b)(1)(vii) to read as follows:

§ 101.31 Temporary and conditional authorizations.

* * * * *

(b) * * *

(1) * * *

(vii) With respect to the 21.8-22.1 GHz and 23.0-23.3 GHz band, the filed application(s) does not propose to operate on a frequency pair centered on other than 21.825/23.025 GHz, 21.875/23.075 GHz, 21.925/23.125 GHz, 21.975/23.175 GHz, 22.025/23.225 GHz or 22.075/23.275 GHz and does not propose to operate with an E.I.R.P. greater than 55 dBm. The center frequencies are shifted from the center frequencies listed above for certain bandwidths as follows: add 0.005 GHz for 20 MHz bandwidth channels, add 0.010 GHz for 30 megahertz bandwidth channels, and subtract 0.005 GHz for 40 MHz bandwidth channels. See specific channel listings in § 101.147(s).

* * * * *

3. In § 101.109(c), in the table revise the entry “6,525 to 6,875” to read as follows:

§ 101.109 Bandwidth.

* * * * *

(c) * * *

Frequency band (MHz) | Maximum authorized bandwidth
* * * * *
6,525 to 6,875 | 30 MHz.¹
* * * * *

* * * * *

4. Amend § 101.147 as follows:

a. Revise the entry “6,525-6,875 MHz (14)” to the list in paragraph (a);

b. Add note (33) to paragraph (a);

c. Add paragraph (l)(8); and

d. Revise the entries “22025” and “220075” to the table in paragraphs (s)(3) and (s)(7).

§ 101.147 Frequency Assignments.

* * * * *

(a) * * *

6,525-6.875 MHz (14) (33)

* * * * *

Notes

* * * * *

(33) The coordination of a new 30 megahertz link in the 6,525-6,875 MHz band should be attempted only if it cannot be accommodated in the 5,925-6,425 MHz band.

* * * * *

(l) * * *

(8) 30 MHz bandwidth channels:

Transmit (receive) (MHz) | Receive (transmit) (MHz)
6555 | 6725
6595 | 6755
6625 | 6785
6655 | 6815
6685 | 6845

* * * * *

(s) * * *

Transmit (receive) (MHz) | Receive (transmit) (MHz)
(3) 10 MHz bandwidth channels:
* * * * *
22025 ² | ² 23225
* * * * *
22075 ² | ² 23275
* * * * *

* * * * *

Transmit (receive) (MHz) | Receive (transmit) (MHz)
(7) 50 MHz bandwidth channels:
* * * * *
² 22025 | 23225 ²
22075 ² | ² 23275
* * * * *
² These frequencies may be assigned to low power systems, as defined in paragraph (8) of this section.

* * * * *

[FR Doc. 2010-17205 Filed 7-14-10; 4:15 pm]

BILLING CODE 6712-01-P